DEPARTMENT OF ENERGY

Fusion Energy Sciences Advisory Committee

AGENCY: Office of Science, Department of Energy.

ACTION: Notice of open meeting.

SUMMARY: This notice announces a virtual meeting of the Fusion Energy Sciences Advisory Committee (FESAC). The Federal Advisory Committee Act requires that public notice of these meetings be announced in the Federal Register.

DATES: Wednesday, December 13, 2023; 10 a.m. to 5 p.m. EST

ADDRESSES: This meeting is open to the public. This meeting will be held virtually via Zoom. Instructions for Zoom, as well as any updates to meeting times or meeting agenda, can be found on the FESAC meeting website at: https://science.osti.gov/fes/fesac/Meetings.

FOR FURTHER INFORMATION CONTACT: Dr. Samuel J. Barish, Office of Fusion Energy Sciences (FES); U.S. Department of Energy; Office of Science; 1000 Independence Avenue SW, Washington, DC 20585; Telephone: (301) 903-2917; email address: sam.barish@science.doe.gov.

SUPPLEMENTARY INFORMATION:

Purpose of the Committee: The purpose of the Committee is to make recommendations on a continuing basis to the Director, Office of Science of the Department of Energy, on the many complex scientific and technical issues that arise in the development and implementation of the fusion energy sciences program.

Tentative Agenda:

• Office of Science Perspective

• Vision for the Fusion Energy Sciences (FES) Program

• New Charge on the FESAC Long-Range Plan and the Bold Decadal Vision Alignment of the FES Program

• Public Comment

• Adjourn

Public Participation: The meeting is open to the public. If you would like to file a written statement with the Committee, you may do so either before or after the meeting. If you would like to make an oral statement regarding any of the items on the agenda, you should contact Dr. Barish at sam.barish@science.doe.gov. Reasonable provision will be made to include the scheduled oral statements during the Public Comment time on the agenda. The Chairperson of the Committee will conduct the meeting to facilitate the orderly conduct of business. Public comment will follow the 10-minute rule.

Minutes: The minutes of the meeting will be available for review on the Fusion Energy Sciences Advisory Committee website: https://science.osti.gov/fes/fesac/Meetings.

Signed in Washington, DC on November 15, 2023.
LaTanya Butler,
Deputy Committee Management Officer.

[FR Doc. 2023-25621 Filed 11-17-23; 8:45 am]

BILLING CODE 6450-01-P